DEPARTMENT OF LABOR

Employment and Training Administration

[TA-W-54,837]

American Meter Company, Calexico, CA; Notice of Termination of Investigation

Pursuant to section 221 of the Trade Act of 1974, an investigation was initiated on May 4, 2004 in response to a worker petition which was filed on behalf of workers at American Meter Company, Calexico, California.

An active certification covering the petitioning group of workers is already in effect (TA-W-54,669A, as amended). Consequently, further investigation in this case would serve no purpose, and the investigation has been terminated.

Signed in Washington, DC this 11th day of May 2004.
Richard Church,
Certifying Officer, Division of Trade Adjustment Assistance.

[FR Doc. 04-12630 Filed 6-3-04; 8:45 am]

BILLING CODE 4510-30-P